NATIONAL FOUNDATION ON THE ARTS AND THE HUMANITIES

Meetings of Humanities Panel; Correction

AGENCY: National Endowment for the Humanities, National Foundation on the Arts and the Humanities.

ACTION: Notice of meetings; correction.

SUMMARY: The National Endowment for the Humanities published a document in the Federal Register of August 14, 2012, concerning notice of meetings of the Humanities Panel during the month of September 2012. Two of the meetings have been cancelled and rescheduled as one meeting. All other information in the notice remains the same.

FOR FURTHER INFORMATION CONTACT: Lisette Voyatzis, Committee Management Officer, at (202) 606-8322.

Correction

In the Federal Register of August 14, 2012, in FR Doc. 2012-19899, on page 48553, in the first and second columns, remove items 9 and 10 and replace with:

9. Date: September 24, 2012.

Time: 8:30 a.m. to 5:00 p.m.

Room: 315. This meeting will discuss applications for the Bridging Cultures at Community Colleges: Request for Proposals for a Cooperative Agreement program, submitted to the Division of Education Programs.

Dated: August 20, 2012.
Lisette Voyatzis,
Committee Management Officer.

[FR Doc. 2012-20874 Filed 8-23-12; 8:45 am]

BILLING CODE 7536-01-P